DEPARTMENT OF TRANSPORTATION

Federal Aviation Administration

14 CFR Part 95

[Docket No. 31084; Amdt. No. 527]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, July 21, 2016.

FOR FURTHER INFORMATION CONTACT: Richard A. Dunham, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on June 17, 2016.
John Duncan,
Director, Flight Standards Service.

Adoption of the Amendment

Accordingly, pursuant to the authority delegated to me by the Administrator, part 95 of the Federal Aviation Regulations (14 CFR part 95) is amended as follows effective at 0901 UTC, July 21, 2016.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 527, effective date July 21, 2016]
From | To | MEA
§ 95.6001 Victor Routes—U.S.
§ 95.6025 VOR Federal Airway V25 is Amended to Read in Part
VENTURA, CA VOR/DME | DEANO, CA FIX | 6000
DEANO, CA FIX | * SAN MARCUS, CA VORTAC | 6200
* 7600—MCA SAN MARCUS, CA | VORTAC, NW BND
§ 95.6026 VOR Federal Airway V26 is Amended to Read in Part
EDGRR, WI FIX | WAUSAU, WI VORTAC | * 6000
* 3600—MOCA
* 3600—GNSS MEA
WAUSAU, WI VORTAC | CHURP, WI FIX | * 8000
* 3000—GNSS MEA
CHURP, WI FIX | GREEN BAY, WI VORTAC | * 7000
* 2400—MOCA
§ 95.6067 VOR Federal Airway V67 is Amended to Read in Part
CEDAR RAPIDS, IA VOR/DME | * LYERS, IA FIX | 2900
* 3200—MRA
* LYERS, IA FIX | WATERLOO, IA VOR/DME | 2900
* 3200—MRA
§ 95.6077 VOR Federal Airway V77 is Amended to Read in Part
WATERLOO, IA VOR/DME | WAUKON, IA VORTAC | * 3000
* 2800—MOCA
§ 95.6097 VOR Federal Airway V97 is Amended to Read in Part
NOISE, TN FIX | LONDON, KY VORTAC | * 5000
* 4200—MOCA
LONDON, KY VORTAC | REBEL, KY FIX | * 3400
* 2900—MOCA
§ 95.6120 VOR Federal Airway V120 is Amended to Read in Part
MASON CITY, IA VORTAC | * AREDA, IA FIX | ** 3000
* 4500—MRA
** 2800—MOCA
* AREDA, IA FIX | ** SEATS, IA FIX | *** 3000
* 4500—MRA
** 4500—MRA
*** 2800—MOCA
§ 95.6139 VOR Federal Airway V139 is Amended to Read in Part
DUNFE, VA FIX | SNOW HILL, MD VORTAC | * 4000
* 1600—MOCA
§ 95.6146 VOR Federal Airway V146 is Amended to Read in Part
PROVIDENCE, RI VORTAC | MARTHAS VINEYARD, MA VOR/DME | 2100
§ 95.6148 VOR Federal Airway V148 is Amended to Read in Part
ALEEN, WI FIX | HAYWARD, WI VOR/DME | #
#UNUSABLE
HAYWARD, WI VOR/DME | * IRONWOOD, MI VORTAC | 10000
* 5200—MCA IRONWOOD, MI | VORTAC, SW BND
§ 95.6165 VOR Federal Airway V165 is Amended to Read in Part
JEFFY, CA FIX | * LOPES, CA FIX | 9000
*8600—MCA LOPES, CA | FIX, S BND
LOPES, CA FIX | * ARVIN, CA FIX | 8500
* 7300—MCA ARVIN, CA | FIX, SE BND
§ 95.6167 VOR Federal Airway V167 is Amended to Read in Part
JEWIT, CT FIX | PROVIDENCE, RI VORTAC | 2500
§ 95.6186 VOR Federal Airway V186 is Amended to Read in Part
SAN MARCUS, CA VORTAC | DEANO, CA FIX | 6200
DEANO, CA FIX | * HENER, CA FIX | 5000
* 5100—MCA HENER, CA | FIX, E BND
HENER, CA FIX | FILLMORE, CA VORTAC | 6300
FILLMORE, CA VORTAC | VAN NUYS, CA VOR/DME | 6000
VAN NUYS, CA VOR/DME | TIFNI, CA FIX | 5500
PARADISE, CA VORTAC | TANNR, CA FIX | 6000
§ 95.6187 VOR Federal Airway V187 is Amended to Read in Part
MANCA, CO FIX | HERRM, CO FIX | # * 15000
* 12800—MOCA
# MEA IS ESTABLISHED WITH A GAP IN NAVIGATION SIGNAL COVERAGE.
§ 95.6197 VOR Federal Airway V197 is Amended to Read in Part
PARADISE, CA VORTAC | * POMONA, CA VORTAC | 4500
* 5800—MCA POMONA, CA | VORTAC, NW BND
FISCH, CA FIX | * KELEN, CA FIX | ** 10200
* 9300—MCA KELEN, CA | FIX, SE BND
** 10200—MOCA
KELEN, CA FIX | * ARVIN, CA FIX | 8500
* 7300—MCA ARVIN, CA | FIX, SE BND
§ 95.6198 VOR Federal Airway V198 is Amended to Read in Part
TIBBY, LA VOR/DME | HARVEY, LA VORTAC | 2100
§ 95.6248 VOR Federal Airway V248 is Amended to Read in Part
AVENAL, CA VOR/DME | SCRAP, CA FIX | 4000
§ 95.6310 VOR Federal Airway V310 is Amended to Read in Part
LOUISVILLE, KY VORTAC | LONDON, KY VORTAC | * 3300
* 2900—MOCA
LONDON, KY VORTAC | ROSAR, KY FIX | * 5500
* 3800—MOCA
§ 95.6345 VOR Federal Airway V345 is Amended to Read in Part
EAU CLAIRE, WI VORTAC | HAYWARD, WI VOR/DME | # * 5200
* 3100—MOCA
* 4000—GNSS MEA
# HAYWARD R-178 UNUSABLE USE EAU CLAIRE R-357
§ 95.6347 VOR Federal Airway V347 is Amended to Read in Part
LONDON, KY VORTAC | HINCH MOUNTAIN, TN VORTAC | * 4700
* 4600—MOCA
§ 95.6459 VOR Federal Airway V459 is Amended to Read in Part
JEFFY, CA FIX | * LOPES, CA FIX | 9000
* 8600—MCA LOPES, CA | FIX, S BND
LOPES, CA FIX | * WRING, CA FIX | 8500
* 5800—MCA WRING, CA | FIX, SE BND
§ 95.6517 VOR Federal Airway V517 is Amended to Read in Part
LONDON, KY VORTAC | LOGIC, KY FIX | 2900
§ 95.6552 VOR Federal Airway V552 is Amended to Read in Part
* GRICE, LA FIX | TIBBY, LA VOR/DME | 2000
* 4000—MRA
TIBBY, LA VOR/DME | HARVEY, LA VORTAC | 2100
§ 95.6562 VOR Federal Airway V562 is Amended to Read in Part
DRAKE, AZ VORTAC | PEACH SPRINGS, AZ VORTAC | 9200
§ 95.6597 VOR Federal Airway V597 is Amended to Read in Part
FILLMORE, CA VORTAC | VAN NUYS, CA VOR/DME | 6000
VAN NUYS, CA VOR/DME | DARTS, CA FIX | 5500
§ 95.6311 Alaska VOR Federal Airway V311 is Amended to Read in Part
ANNETTE ISLAND, AK VOR/DME | * TOKEE, AK FIX | 6000
* 9000—MCA TOKEE, AK | FIX, NW BND
TOKEE, AK FIX | WIBTA, AK FIX | * 9000
* 4700—MOCA
WIBTA, AK FIX | FLIPS, AK FIX
| W BND | * 7500
| E BND | * 9000
* 6300—MOCA
FLIPS, AK FIX | BIORKA ISLAND, AK VORTAC
| W BND | 6100
| E BND | 7500
§ 95.6473 Alaska VOR Federal Airway V473 is Amended to Read in Part
FLIPS, AK FIX | BIORKA ISLAND, AK VORTAC
| W BND | 6100
| E BND | 7500

From | To | MEA | MAA
§ 95.7001 Jet Routes
§ 95.7005 Jet Route J5 is Amended to Read in Part
POWEL, OR FIX | SUMMA, WA FIX | 24000 | 45000
§ 95.7054 Jet Route J54 is Amended to Read in Part
OLYMPIA, WA VORTAC | BAKER CITY, OR VOR/DME | # 24000 | 45000
# MEA IS ESTABLISHED WITH A GAP IN NAVIGATION SIGNAL COVERAGE.
§ 95.7086 Jet Route J86 is Amended to Read in Part
BOULDER CITY, NV VORTAC | PEACH SPRINGS, AZ VORTAC | 18000 | 45000

From | To | Distance
§ 95.8003 VOR Federal Airway Changeover Point
Airway Segment Changeover Points Is Amended To Add Changeover Point V148
HAYWARD, WI VOR/DME | IRONWOOD, MI VORTAC | 20
HAYWARD
§ 95.8005 Jet Routes Changeover Points
Airway Segment Changeover Points Is Amended To Add Changeover Point J54
OLYMPIA, WA VORTAC | BAKER CITY, OR VOR/DME | 143
OLYMPIA

[FR Doc. 2016-14799 Filed 6-21-16; 8:45 am]

BILLING CODE 4910-13-P